DEPARTMENT OF COMMERCE

International Trade Administration

[Application No. 85-14A18]

Export Trade Certificate of Review

ACTION: Notice of Issuance of an Amended Export Trade Certificate of Review to U.S. Shippers Association.

SUMMARY: The U.S. Department of Commerce has issued an amended Export Trade Certificate of Review (“Certificate”) to the U.S. Shippers Association (“USSA”) on January 16, 2008. USSA's application to amend its Certificate was announced in the Federal Register on October 25, 2007 (72 FR 60648). The original Certificate No. 85-00018 was issued to USSA on June 3, 1986, and announced in the Federal Register on June 9, 1986 (51 FR 20873). The previous amendment (No. 85-13A018) was issued to USSA on November 27, 2007, and announced in the Federal Register December 4, 2007 (72 FR 68128).

FOR FURTHER INFORMATION CONTACT: Jeffrey Anspacher, Director, Export Trading Company Affairs, International Trade Administration, by telephone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR Part 325 (2006).

Export Trading Company Affairs is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

USSA's Export Trade Certificate of Review has been amended to: Add the following company as a new “Member” of the Certificate within the meaning of section 325.2(1) of the Regulations (15 CFR 325.2(1)): Cook Composites and Polymers Co., North Kansas City, Missouri (controlling entity: TOTAL Holdings USA, Inc., Houston Texas).

The effective date of the amended certificate is October 18, 2007, the date on which USSA's application to amend was deemed submitted. A copy of the amended Certificate will be kept in the International Trade Administration's Freedom of Information Records Inspection Facility, Room 4001, U.S. Department of Commerce, 14th Street and Constitution Avenue, NW., Washington, DC 20230.

Dated: January 17, 2008.
Jeffrey Anspacher,
Director, Export Trading Company Affairs.

[FR Doc. E8-1122 Filed 1-22-08; 8:45 am]

BILLING CODE 3510-DR-P